DEPARTMENT OF DEFENSE

Office of the Secretary

[Docket ID DoD-2014-OS-0002]

Privacy Act of 1974; System of Records

AGENCY: Office of the Secretary of Defense, DoD.

ACTION: Notice to add a new System of Records.

SUMMARY: The Office of the Secretary of Defense proposes to add a new system of records DPR 44 DoD, DoD Postsecondary Education Complaint System (PECS) to its inventory of record systems subject to the Privacy Act of 1974, as amended. The PECS serves as a collaborative environment that permits DoD personnel the ability to track, manage and process submitted complaints in order to meet the requirements of Executive Order 13607, Establishing Principles of Excellence for Educational Institutions Serving Service Members, Veterans, Spouses, and Other Family Members.

DATES: This proposed action will be effective on February 10, 2014 unless comments are received which result in a contrary determination. Comments will be accepted on or before February 10, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by telephone at (571) 372-0461.

SUPPLEMENTARY INFORMATION: The Office of the Secretary of Defense notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/osd/index.html.

The proposed system report, as required by 5 U.S.C. 552a(r) of the Privacy Act of 1974, as amended, was submitted on December 17, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 6, 2014.
Aaron Siegel,
Alternate OSD Federal Register Liaison Officer, Department of Defense.

DPR 44 DoD

System name:

DoD Postsecondary Education Complaint System (PECS).

System location:

Integrated Network Operations and Security Center-East (INOSC-E), 37 Elm Street, Langley AFB, VA 23665-2800.

Categories of individuals covered by the system:

Uniformed Service Members, spouses, and other family members filing formal complaints pursuant to Executive Order 13607.

Categories of records in the system:

Name, complaint case ID, pay grade, street address, city, state, Zip Code, country, phone number, age range, email address, service affiliation (service member, spouse or family member, veteran), service branch, service status, sponsor information (service status, service branch, and pay grade), type of education benefits used, school name, school mailing address, level of study, amount of out-of-pocket tuition or government tuition credit paid (academic year), education center name, education center mailing address, complaint description and resolution, name and contact information of person submitting complaint on behalf of a covered individual.

Authority for maintenance of the system:

E.O. 13607, Establishing Principles of Excellence for Educational Institutions Serving Service Members, Veterans, Spouses, and Other Family Members.

Purpose(s):

The DoD Postsecondary Education Complaint System (PECS) provides Uniformed Service Members, spouses, and other family members the opportunity to file formal complaints when educational institutions fail to follow the Principles of Excellence outlined in Executive Order 13607. The PECS serves as a collaborative environment that permits DoD personnel the ability to track, manage and process submitted complaints in order to meet the requirements of the executive order.

Routine uses of records maintained in the system, including categories of users and the purposes of such uses:

In addition to those disclosures generally permitted under 5 U.S.C. 552a(b) of the Privacy Act of 1974, as amended, the records herein may be specifically disclosed outside the Department of Defense as a routine use pursuant to 5 U.S.C. 552a(b)(3) as follows:

To the Consumer Sentinel Network (managed by the Federal Trade Commission) for access by the Departments of Veterans Affairs, Education, Justice, and the Consumer Financial Protection Bureau for compliance with E.O. 13607 and potential enforcement efforts.

To the Departments of Veterans Affairs and Education for the purpose of transferring complaints submitted to the DoD, but under the cognizance of one of the above Agencies.

The DoD Blanket Routine Uses published at the beginning of the Office of the Secretary of Defense (OSD) compilation of systems of records notices may apply to this system.

Policies and practices for storing, retrieving, accessing, retaining, and disposing of records in the system:

Storage:

Electronic storage media.

Retrievability:

Name or complaint case ID.

Safeguards:

Records are maintained on a guarded military installation, in a secure building in a controlled area accessible only to authorized personnel. Physical entry is restricted by the use of cipher locks and passwords and administrative procedures which are changed periodically. The system is designed with access controls, comprehensive intrusion detection, and virus protection. Authentication to access to data is role-based, accessed only through Common Access Card authentication, and restricted to those who require the data in the performance of the official duties and have completed information assurance and privacy training annually. Data is transmitted via Transport Layer Security/Secure Socket Layer encryption to protect session information. Encrypted random tokens are implemented to protect against session hijacking attempts.

Retention and disposal:

Disposition pending (until the National Archives and Records Administration approves retention and disposal schedule, records will be treated as permanent).

System manager(s) and address:

Military Community & Family Policy, State Liaison & Educational Opportunities Directorate, 4800 Mark Center Drive, Suite 14E08, Alexandria, VA 22350-2300.

Notification procedure:

Individuals seeking to determine whether information about themselves is contained in this system should address written inquiries to OUSD (P&R), Military Community & Family Policy, State Liaison & Educational Opportunities Directorate, 4800 Mark Center Drive, Alexandria, VA 22350-2300.

Request must contain full name and/or Complaint Case ID.

Record access procedures:

Individuals seeking access to information about themselves contained in this system of records should address written inquiries to the Office of the Secretary of Defense/Joint Staff Freedom of Information Act Requester Service Center, Washington Headquarters Services/Executive Services Directorate, 4800 Mark Center Drive, Alexandria, VA 22350-3100.

Request must contain full name and/or Complaint Case ID.

Contesting record procedures:

The OSD rules for accessing records, and for contesting contents and appealing initial agency determinations are published in OSD Administrative Instruction 81; 32 CFR part 311; or may be obtained from the system manager.

Record source categories:

Data gathered from the individual or person submitting a complaint on behalf of a covered individual.

Exemptions claimed for the system:

None.

[FR Doc. 2014-00178 Filed 1-9-14; 8:45 am]

BILLING CODE 5001-06-P